DEPARTMENT OF COMMERCE

National Oceanic and Atmospheric Administration

[I.D. 082304D]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held on September 13-17, 2004.

ADDRESSES: These meetings will be held at the Edgewater Beach Resort, 11212 Front Beach Road, Panama City, FL 34207.

Council address: Gulf of Mexico Fishery Management Council, 3018 North U.S. Highway 301, Suite 1000, Tampa, FL 33619; 850-235-4977.

FOR FURTHER INFORMATION CONTACT: Wayne E. Swingle, Executive Director, Gulf of Mexico Fishery Management Council; telephone: (813) 228-2815.

SUPPLEMENTARY INFORMATION:

Council

Thursday September 16, 2004

8:30 a.m. - Convene.

8:45 a.m. - 10 a.m. - Receive public testimony on the Reef Fish Amendment 23 (Vermilion Snapper Rebuilding Plan) and Applications for Exempted Fishing Permits (if any).

10 a.m. - 10:30 a.m. - Receive the Habitat Protection Committee report.

10:30 a.m. - 10:45 a.m. - Receive the report of the Joint Personnel/Administrative Policy Committee.

10:45 a.m. - 11 a.m. - Receive the report of the Budget Committee.

11 a.m. - 11:15 a.m. - Receive the Joint Reef Fish/Mackerel Management Committee report.

11:15 a.m. - 11:30 a.m. - Receive the Shrimp Management Committee report.

1 p.m. - 1:15 p.m. - Receive the Data Collection Committee report.

1:15 p.m. - 1:30 p.m. - Receive the Ecosystem Management Committee report.

1:30 p.m. - 3:30 p.m. - Receive the Reef Fish Management Committee report.

3:30 p.m. - 5 p.m. - Receive the Migratory Species Committee report.

September 17, 2004

8:30 a.m. - 9:30 a.m. - Receive the Sustainable Fisheries Committee report.

9:30 a.m. - 10:30 a.m. - Receive the Coral Management Committee report.

10:30 a.m. - 10:45 a.m. - Receive the Joint Advisory Panel (AP) Selection/Scientific and Statistical Committee (SSC) Selection Committee report.

10:45 a.m. - 11 a.m. - Receive the International Commission for the Conservation of Atlantic Tunas (ICCAT) Advisory Committee report.

11 a.m. - 11:15 a.m. - Receive Enforcement Reports.

11:15 a.m. - 11:30 a.m. - Receive the NMFS Regional Administrator's Report.

11:30 a.m. - 11:45 a.m. - Receive Director's Reports.

11:45 a.m. - 12 noon - Other Business

12 noon - 12:15 p.m. - Election of Chair and Vice-Chair.

September 13, 2004

8:30 a.m. - 9:30 a.m. - The Joint Personnel/Administrative Policy Committees will review the disciplinary action section of the Council's Standard Operating Practices and Procedures (SOPPS) and the Southeastern Data and Review (SEDAR) Process and Pool Section of SOPPs.

9:30 a.m. - 10:30 a.m. - The Budget Committee will review the 2005-09 budgets.

10:30 a.m. - 11:30 a.m. - The Joint Reef Fish/Mackerel Management Committee will review amendments for commercial limited access systems for reef fish and mackerels.

1 p.m. - 3:30 p.m. - The Shrimp Management Committee will discuss NOAA Fisheries' bycatch reduction device (BRD) technical developments; proposed revision of BRD certification rule; report on Shrimp Summit meeting; and Draft Shrimp Amendment 13/SEIS.

3:30 p.m. - 5:30 p.m. - The Ecosystem Management Committee will meet and presentations on the NOAA Fisheries' ecosystem management will be given. There will also be a presentation on the South Atlantic Fishery Management Council (SAFMC) approach to ecosystem management.

September 14, 2004

8 a.m - 9:30 a.m. - The Data Collection Committee will meet to hear a presentation of the recreational data needs and data collection.

9:30 a.m. - 11 a.m. - The Habitat Protection Committee will review a Preliminary Public Hearing Draft of Generic Essential Fish Habitat (EFH) Amendment and a report on NOAA Fisheries' Liquid Natural Gas (LNG) Facilities Workshop.

11 a.m. - 5:30 p.m. - The Reef Fish Management Committee will meet to review the Final Reef Fish Amendment 23 for rebuilding vermilion snapper; an Options Paper for Reef Fish 18A pertaining to the grouper fishery; scoping comments on Red Snapper Individual Fishing Quota (IFQ) Profile; and public testimony on grouper quota and trip limits.

6:30 p.m - 8:30 p.m. - NOAA Fisheries' Southeast Regional Office (SERO) will hold the Gulf Coast Recreational Data Forum in the same meeting room as the Council meeting. Dr. Roy Crabtree, SE Regional Administrator, SERO staff, and fisheries statistics staff from NOAA Fisheries Headquarters will be on hand to provide up-to-date program information and answer questions about NOAA Fisheries' recreational data collection program. The informal two-hour session is open to the public and will begin at 6:30 p.m. For more information on the Gulf Coast Recreational Data Forum, contact Michael Bailey at 727-570-5474.

September 15, 2004

8:30 a.m. - 10:30 a.m. - The Highly Migratory Species Committee will meet to suggest changes to the NOAA Fisheries HMS/Billfish Amendments.

10:30 a.m. - 1 p.m. - The Sustainable Fisheries Committee will suggest changes to the draft proposed guidelines for National Standard One.

2:30 - 4:30 p.m. - The Coral Management Committee will meet from to review the Oceana petition for rulemaking on deep-water coral and draft a Council letter commenting on it.

4:30 - 5:30 p.m. - The Joint Advisory Panel (AP)/Scientific and Statistical Committee (SSC) selection Committee will meet in a closed session to discuss the appointment of 2 persons to the Ad Hoc Red Snapper AP and appointment of members to the Ad Hoc Ecosystem SSC.

Although other non-emergency issues not on the agendas may come before the Council and Committees for discussion, in accordance with the Magnuson-Stevens Fishery Conservation and Management Act, those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the untimely completion of discussion relevant to other agenda items. In order to further allow for such adjustments and completion of all items on the agenda, the meeting may be extended from, or completed prior to the date established in this notice.

Special Accommodations

These meetings are physically accessible to people with disabilities. Requests for sign language interpretation or other auxiliary aids should be directed to Dawn Aring at the Council (see ADDRESSES) by September 2, 2004.

Dated: August 25, 2004.
Alan D. Risenhoover,
Acting Director, Office of Sustainable Fisheries, National Marine Fisheries Service.

[FR Doc. E4-1962 Filed 8-27-04; 8:45 am]

BILLING CODE 3510-22-S